DEPARTMENT OF THE INTERIOR

National Park Service

National Register of Historic Places; Notification of Pending Nominations

Nominations for the following properties being considered for listing in the National Register were received by the National Park Service before July 29, 2000. Pursuant to § 60.13 of 36 CFR part 60, written comments concerning the significance of these properties under the National Register criteria for evaluation may be forwarded to the National Register, National Park Service, 1849 C St. NW, NC400, Washington, DC 20240. Written comments should be submitted by August 22, 2000.

Carol D. Shull,
Keeper of the National Register.

COLORADO

Jefferson County

Rio Grande Southern Railroad Engine No. 20, 17155 W. 44th Ave., Golden, 00001003

Larimer County

Armstrong Hotel, 249-261 S. College Ave., Fort Collins, 00001002

IOWA

Dallas County

Bruce's Snowball Market #1 Addition (Downtown Perry, Iowa MPS), 921 Railroad St., Perry, 00001004

Downtown Perry Historic District (Downtown Perry, Iowa MPS) bet. 3rd St., Lucinda St., 1st Ave., and Railroad St., Perry, 00001005

Jones Business College, 1305 Otley Ave., Perry, 00001006

MARYLAND

Baltimore County

Baltimore County School No. 7, 200 Ashland Rd., Cockeysville, 00001007

MISSOURI

St. Louis County

Burkhardt Historic District, 16662-16678 Chesterfield Airport Rd., Chesterfield, 00001011

St. Louis Independent City

Balmer & Weber Music House Co. Building, 1004 Olive St., St. Louis, 00001008

Lucas Avenue Industrial Historic District, bounded by Washington, Delmar, 20th and 21st Sts., St. Louis, 00001009

South Side National Bank, 3606 Gravois Ave., St. Louis, 00001010

NEW YORK

Bronx County

Jerome Park Reservoir, Goulden, Reservoir and Sedgwick Aves., Bronx, 00001014

New York County

First Hungarian Reformed Church, 344-346 East 69th St., New York, 00001012

Lower East Side Historic District, roughly bounded by Allen St., E. Houston, Essex St., Canal St., Eldridge St., E. Broadway, and Grand St.,

New York, 00001015

Queens County

Douglaston Hill Historic District, roughly bounded by Douglaston Pkwy., Northern Blvd., 244th St., 243rd St., and Long Island R.R., Douglaston, 00001016

Firemen's Hall, 13-28 123rd St., College Point, 00001013

OREGON

Deschutes County

Congress Apartments, 221, 223, 225, 227, and 229 NW Congress St., Bend, 00001020

Multnomah County First Regiment Armory Annex, 123 NW Eleventh Ave., Portland, 00001017

Meier & Frank Warehouse, 1438 NW Irving St., Portland, 00001021

Tichner, Abraham, House, 114 SW Kingston Ave., Portland, 00001022

Weinhard Brewery Complex, 1131-1133 W. Burnside, Portland, 00001018

Union County

Dry Creek School, 69281 Summerville Rd., Summerville, 00001019

[FR Doc. 00-19885 Filed 8-4-00; 8:45 am]

BILLING CODE 4310-70-P